ENVIRONMENTAL PROTECTION AGENCY

[EPA-HQ-OPP-2009-0639; FRL-8874-5]

2-(Hydroxymethyl)-2-nitro-1,3-propanediol (Tris Nitro); Notice of Receipt of Requests for Amendments To Terminate Uses; Notice of Withdrawal/Vacation of Order To Amend Registrations To Terminate Certain Uses

AGENCY: Environmental Protection Agency (EPA).

ACTION: Notice.

SUMMARY: In accordance with section 6(f)(1) of the Federal Insecticide, Fungicide, and Rodenticide Act (FIFRA), as amended, EPA is issuing a notice of receipt of requests for amendments by registrants to terminate uses in certain pesticide registrations. Section 6(f)(1) of FIFRA provides that a registrant of a pesticide product may at any time request that any of its pesticide registrations be amended to terminate one or more uses. FIFRA further provides that, before acting on the requests, EPA must publish a notice of receipt of any request in the Federal Register. The Agency is also issuing a Notice of Withdrawal/Vacation of the “2-(Hydroxymethyl)-2-nitro-1,3-propanediol (Tris Nitro) Order to Amend Registrations to Terminate Certain Uses” published in the Federal Register on September 22, 2010. The Final Order dated September 22, 2010 was issued in error and EPA is withdrawing/vacating that Order.

DATES: The terminations are effective July 8, 2011, unless the Agency receives a written withdrawal request on or before July 8, 2011. The Agency will consider a withdrawal request postmarked no later than July 8, 2011.

Users of these products who desire continued use on crops or sites being terminated should contact the applicable registrant on or before July 8, 2011.

ADDRESSES: Submit your withdrawal request, identified by docket identification (ID) number EPA-HQ-OPP-2009-0639, by one of the following methods:

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

FOR FURTHER INFORMATION CONTACT: Rebecca Von-Dem Hagen, Antimicrobials Division (7510P), Office of Pesticide Programs, Environmental Protection Agency, 1200 Pennsylvania Ave., NW., Washington, DC 20460-0001; telephone number: (703) 305-6785; e-mail address: vondem-hagen.rebecca@epa.gov.

SUPPLEMENTARY INFORMATION:

I. General Information

A. Does this action apply to me?

This action is directed to the public in general. Although this action may be of particular interest to persons who produce or use pesticides, the Agency has not attempted to describe all the specific entities that may be affected by this action. If you have any questions regarding the information in this notice, consult the person listed under FOR FURTHER INFORMATION CONTACT.

B. How can I get copies of this document and other related information?

EPA has established a docket for this action under docket ID number EPA-HQ-OPP-2009-0639. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces receipt by the Agency of requests for amendments from a registrant to terminate uses in certain pesticide registrations. These registrations are listed in Table 1 of this unit by registration number, product name, active ingredient, and specific uses requested to be terminated.

In this Federal Register Notice, the Agency is also issuing a Notice of Withdrawal/Vacation of the “2-(Hydroxymethyl)-2-nitro-1,3-propanediol (tris nitro) Order to Amend Registrations to Terminate Certain Uses” published in the Federal Register on September 22, 2010 (75 FR 57780) (FRL-8843-4). In letters dated November 19, 2009, Dow Chemical Company requested to amend to terminate certain uses of its affected Tris Nitro pesticide product registrations. On June 23, 2010 (75 FR 35807) (FRL-8829-3), the Agency published a Federal Register Notice announcing receipt of the requests from the registrant to amend to terminate certain uses. After a 30-day comment period in which no comments were received, the Agency published the “2-(Hydroxymethyl)-2-nitro-1,3-propanediol (Tris Nitro); Order to Amend Registrations to Terminate Certain Uses” in the Federal Register on September 22, 2010. However, a letter from Dow Chemical Company dated February 25, 2010 requesting to officially withdraw the use termination requests was not processed in a timely manner; therefore, the September 22, 2010 Order, which included all uses listed in Table 1 of this unit in addition to use in or on livestock and poultry premises, was issued in error. In this Federal Register notice, the September 22, 2010 Order is being withdrawn/vacated by the Agency.

Table 1.—Requests for Amendments to Terminate Uses in Certain Pesticide Registrations
Registration No. | Product name | Company | Uses to be terminated
464-657 | Tris Nitro™ Solid Industrial Bacteriostat | The Dow Chemical Company | Use in metalworking fluids; Latex paints; Resin/latex/polymer emulsions; Specialty industrial products.
464-658 | Tris Nitro™ Brand of 50% AqueousTris (hydroxymethyl) nitromethane | The Dow Chemical Company | Use in metalworking fluids; Latex paints; Resin/latex/polymer emulsions; Specialty industrial products.
464-663 | Tris Nitro™ Brand of 50% Aqueous Tris (hydroxymethyl) nitromethane | The Dow Chemical Company | Use in paints, emulsions and thickener solutions; Use in metalworking fluids; Use as a preservative for packaged emulsions, solutions, or suspensions, such as detergents and polishes containing water.
464-668 | Tris Nitro™ Brand of 25% Aqueous Tris (hydroxymethyl) nitromethane | The Dow Chemical Company | Use in metalworking fluids; Use as a preservative for packaged emulsions, solutions, or suspensions, such as detergents and polishes containing water.
464-679 | Tris Nitro™ Brand | The Dow Chemical Company | Use in paints, emulsions, and thickener solutions; Use in metalworking fluids; Use as a preservative for packaged emulsions, solutions, or suspensions, such as detergents and polishes containing water; Use in pulp and paper-mill process water systems.

Users of these products who desire continued use on crops or sites being terminated should contact the applicable registrant before July 8, 2011to discuss withdrawal of the application for amendment. This 30-day period will also permit interested members of the public to intercede with registrants prior to the Agency's approval of the terminations.

Table 2 of this unit includes the name and address of record for the registrant of the products listed in Table 1 of this unit, in sequence by EPA company number.

Table 2—Registrant Requesting Amendments To Terminate Uses in Certain Pesticide Registrations
EPA Company No. | Company name and address
464 | The Dow Chemical Company, 1803 Building, Midland, MI 48674.

III. What is the agency's authority for taking this action?

Section 6(f)(1) of FIFRA provides that a registrant of a pesticide product may at any time request that any of its pesticide registrations be amended to terminate one or more uses. The FIFRA further provides that, before acting on the requests, EPA must publish a notice of receipt of any such requests in the Federal Register. Thereafter, the Administrator may approve such requests.

FIFRA section 6(f)(1)(C) requires that EPA provide a 180-day comment period on a request for voluntary cancellation or termination of any minor agricultural use before granting the request, unless:

1. The registrant requests a waiver of the comment period, or

2. The EPA Administrator determines that continued use of the pesticide would pose an unreasonable adverse effect on the environment.

The 2-(hydroxymethyl)-2-nitro-1,3-propanediol (tris nitro) registrant has requested that EPA waive the 180-day comment period. Accordingly, EPA will provide a 30-day comment period on the requests to amend to terminate uses.

IV. Procedures for Withdrawal of Requests

Any registrant who chooses to withdraw a request for use termination must submit the withdrawal in writing to Rebecca von dem Hagen using the methods in ADDRESSES. The Agency will consider written withdrawal requests postmarked no later than July 8, 2011.

V. Provisions for Disposition of Existing Stocks

If the requests for amendments to terminate uses are granted, the Agency will publish a cancellation order in the Federal Register. As part of any cancellation order, the Agency would expect to authorize the registrant to sell or distribute product under the previously approved labeling for a period of 18 months after the effective date of the use terminations, unless other restrictions have been imposed, as in special review actions.

List of Subjects

Environmental protection, Pesticides and pests, Antimicrobials, 2-(hydroxymethyl)-2-nitro-1,3-propanediol, Tris Nitro.

Dated: May 26, 2011.
Joan Harrigan-Farrelly,
Director, Antimicrobials Division, Office of Pesticide Programs.

[FR Doc. 2011-14218 Filed 6-7-11; 8:45 am]

BILLING CODE 6560-50-P